DEPARTMENT OF DEFENSE

Department of the Army; Corps of Engineers

Comment Period Extension for the Draft Environmental Impact Statement for the South River, Raritan River Basin, Hurricane and Storm Damage Reduction and Ecosystem Restoration Study, Middlesex County, NJ

AGENCY: Department of the Army, U.S. Army Corps of Engineers, DoD.

ACTION: Notice; Comment period extension.

SUMMARY: By Federal Register notice of June 7, 2002 (67 FR 39366) the New York District of the U.S. Army Corps of Engineers (Corps) announced the availability of the Draft Environmental Impact Statement (DEIS) for the South River, Raritan River Basin, Hurricane and Storm Damage Reduction and Ecosystem Restoration Study. The purpose of the study is to identify a plan that would protect local communities from damages caused by hurricanes and storms, and restore degraded ecosystem structure and function in the South River watershed.

In response to requests to increase the public notice comment period, the Corps finds it appropriate to extend the comment period for an additional 45 days beyond the 22 July 2002 date previously in effect. All interested parties are notified that the comment period of this public notice is hereby extended until 5 September 2002.

DATES: Written comments should be submitted on or before 5 September 2002.

ADDRESSES: Written comments should be submitted to Mark Burlas, Project Wildlife Biologist, Planning Division, U.S. Army Corps of Engineers, New York District, 26 Federal Plaza, New York, New York 10278-0090.

FOR FURTHER INFORMATION CONTACT: Mark Burlas, Project Wildlife Biologist, Planning Division, U.S. Army Corps of Engineers, New York District, 26 Federal Plaza, New York, New York, 10278-0090 at (212) 264-4663.

Luz D. Ortiz,
Army Federal Register Liaison Officer.

[FR Doc. 02-22191 Filed 8-29-02; 8:45 am]

BILLING CODE 3710-06-M